FEDERAL COMMUNICATIONS COMMISSION

47 CFR Parts 1, 20, 27, and 73

[AU Docket No. 14-252, GN Docket No. 12-268, WT Docket No. 12-269; Report No. 3036]

Petitions for Reconsideration of Public Notice Regarding Application Procedures for Broadcast Incentive Auction

AGENCY: Federal Communications Commission.

ACTION: Petitions for reconsideration; correction.

SUMMARY: On December 10, 2015, the Federal Communications Commission (FCC) published a summary of a Public Notice, 80 FR 76649, announcing that oppositions to Petitions for Reconsideration must be filed by December 28, 2015, and replies to an opposition must be filed by December 21, 2015. This document corrects the due date for replies to an opposition.

FOR FURTHER INFORMATION CONTACT: Mark Montano, Wireless Telecommunications Bureau, (202) 418-0691, email: mark.montano@fcc.gov.

Correction

In the Federal Register of December 10, 2015, in FR Doc. 2015-31256, on page 76649, in the first column, correct the DATES caption to read:

DATES: Oppositions to Petitions for Reconsideration must be filed on or before December 28, 2015. Replies to an opposition must be filed on or before January 7, 2016.

Federal Communications Commission.
Gloria J. Miles,
Federal Register Liaison Officer, Office of the Secretary.

[FR Doc. 2015-32057 Filed 12-21-15; 8:45 am]

BILLING CODE 6712-01-P